DEPARTMENT OF TRANSPORTATION

Federal Aviation Administration

RTCA Special Committee 159: Minimum Operational Performance Standards for Airborne Navigation Equipment Using Global Positioning System (GPS)

AGENCY: Federal Aviation Administration (FAA), DOT.

ACTION: Notice of RTCA Special Committee 159 meeting.

SUMMARY: The FAA is issuing this notice to advise the public of a meeting of RTCA Special Committee 159: Minimum Operational Performance Standards for Airborne Navigation Equipment Using Global Positioning System (GPS).

DATES: The meeting will be held August 12-16, 2002, from 9 a.m. to 4:30 p.m. (unless stated otherwise).

ADDRESSES: The meeting will be held at RTCA, Inc., 1828 L Street NW., Suite 805, Washington, DC 20036.

FOR FURTHER INFORMATION CONTACT: RTCA Secretariat, 1828 L Street NW., Suite 805, Washington, DC 20036; telephone (202) 833-9339; fax (202) 833-9434; web site http://222.rtca.org.

SUPPLEMENTARY INFORMATION: Pursuant to section 10(a)(2) of the Federal Advisory Committee Act (P.L. 92-463, 5 U.S.C., Appendix 2), notice is hereby given for a Special Committee 159 meeting. Note: Specific working group sessions will be held August 12-15. The plenary agenda will include:

• April 16:

• Opening Plenary Session (Welcome and Introductory Remarks, Approve Minutes of Previous Meeting)

• Review Working Group (WG) Progress and Identify Issues for Resolution

• Global Positioning System (GPS)/3rd Civil Frequency (WG-1)

• GGPS/Wide Area Augmentation System (WAAS) (WG-2)

• GPS/GLONASS (WG-2A)

• GPS/Inertial (WG-2C)

• GPS/Precision Landing Guidance (WG-4)

• GPS/Airport Surface Surveillance (WG-5)

• GPS/Interference (WG-6)

• SC-159 Ad Hoc

• Review of EUROCAE activities

• Review/Approve revised DO-235, Assessment of Radio Frequency Interface Relevant to the GNSS, RTCA Paper No. 157-02/SC 159-896

• Review/Approve Errata to DO-229C, RTCA Paper No. 082-02/SC159-893.

• Closing Plenary Session (Assignment/Review of Future Work, Other Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 11, 2002.
Janice L. Peters,
FAA Special Assistant, RTCA Advisory Committee.

[FR Doc. 02-18012 Filed 7-16-02; 8:45 am]

BILLING CODE 4910-13-M